SMALL BUSINESS ADMINISTRATION

[License No. 09/79-0428; License No. 09/79-0452]

Montreux Equity Partners II SBIC, L.P.; Montreux Equity Partners III SBIC, L.P.; Notice Seeking Exemption Under Section 312 of the Small Business Investment Act, Conflicts of Interest

Notice is hereby given that Montreux Equity Partners II SBIC, L.P. and Montreux Equity Partners III SBIC, L.P., 3000 Sand Hill Road, Building 1, Suite 260, Menlo Park, CA 94025, Federal Licensees under the Small Business Investment Act of 1958, as amended (“the Act”), in connection with the sale of an asset to an Associate, has sought an exemption under section 312 of the Act and section 107.730, which Constitute Conflicts of Interest of the Small Business Administration (“SBA”) Rules and Regulations (13 CFR 107.730). Montreux Equity Partners III SBIC, L.P. proposes to sell part of its equity interest in Renal CarePartners, Inc., 4000 Hollywood Blvd., Suite 300N, Hollywood, FL 33021 to Montreux Equity Partners II SBIC, L.P.

The financing is brought within the purview of § 107.730(a)(1) of the Regulations because Montreux Equity Partners II SBIC, L.P. and Montreux Equity Partners III SBIC, L.P. are considered Associates by virtue of Common Control as defined at 13 CFR 107.50.

Therefore, this transaction is considered self-dealing requiring an exemption. Notice is hereby given that any interested person may submit written comments on the transaction within fifteen days of the date of this publication to the Acting Associate Administrator for Investment, U.S. Small Business Administration, 409 Third Street, SW., Washington, DC 20416.

Dated: April 7, 2010.
Sean Greene,
Associate Administrator for Investment.

[FR Doc. 2010-9145 Filed 4-20-10; 8:45 am]

BILLING CODE 8025-01-P